FEDERAL COMMUNICATIONS COMMISSION

47 CFR Part 73

[DA 03-3936]

Editorial Modifications of the Commission's Rules

AGENCY: Federal Communications Commission.

ACTION: Final rule.

SUMMARY: In this document the Commission provides a more efficiently organized presentation of standards, specifications, and similar documents that are referenced in the regulations for broadcast radio services in part 73 of the Commission's rules, this Order makes administrative revisions to those rules pursuant to the authority contained in 47 CFR 0.231(b). The amendments adopted herein pertain to agency organization, procedure, and practice and are not subject to the notice and comment provisions of the Administrative Procedure Act, 5 U.S.C. 553(b).

DATES: Effective January 16, 2004.

FOR FURTHER INFORMATION CONTACT: Susan Mort, susan.mort@fcc.gov, (202) 418-1043.

SUPPLEMENTARY INFORMATION: This is a summary of the Federal Communications Commission's Order, DA 03-3936, adopted on December 11, 2003 and released on December 12, 2003. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365 or at Brian.Millin@fcc.gov.

Summary of the Order

1. In order to provide a more efficiently organized presentation of the various materials, e.g., standards, specifications, and similar documents that are referenced in the regulations for broadcast radio services in part 73 of the Commission's rules, certain administrative revisions are necessary to those rules. Authority for adoption of the revisions is contained in 47 CFR 0.231(b). The amendments adopted herein pertain to agency organization, procedure, and practice. Consequently, the notice and comment provisions of the Administrative Procedure Act, contained in 5 U.S.C. 553(b), are inapplicable.

2. It is ordered that part 73 of the Commission's rules, set forth in title 47 of the Code of Federal Regulations, is amended, as set forth herein, and shall become effective upon publication in the Federal Register.

List of Subjects in 47 CFR Part 73

Incorporation by reference, Television.

Federal Communications Commission.
Marlene H. Dortch,
Secretary.

For the reasons discussed in the preamble, the Federal Communications Commission amends 47 CFR part 73 as follows:

PART 73—RADIO BROADCAST SERVICES

1. The authority for part 73 continues to read as follows:

Authority: 47 U.S.C. 154, 303, 334 and 336.

2. Amend § 73.682 by revising paragraph (d) to read as follows:

§ 73.682 TV transmission standards.

* * * * *

(d) Digital broadcast television transmission standard. Transmission of digital broadcast television (DTV) signals shall comply with the standards for such transmissions set forth in ATSC A/52: “ATSC Standard Digital Audio Compression (AC-3)” (incorporated by reference, see § 73.8000) and ATSC Doc. A/53B, Revision B with Amendment 1:

“ATSC Digital Television Standard,” except for Section 5.1.2 (“Compression format constraints”) of Annex A (“Video Systems Characteristics”) and the phrase “see Table 3” in Section 5.1.1. Table 2 and Section 5.1.2 Table 4 (incorporated by reference, see § 73.8000). Although not incorporated by reference, licensees may also consult ATSC Doc. A/54, Guide to Use of the ATSC Digital Television Standard, October 4, 1995, and ATSC Doc. A/65A, Program System and Information Protocol (PSIP) for Terrestrial Broadcast and Cable, December 23, 1997 for guidance. (Secs. 4, 5, 303, 48 Stat., as amended, 1066, 1068, 1082 (47 U.S.C. 154, 155, 303)).

[FR Doc. 04-904 Filed 1-15-04; 8:45 am]

BILLING CODE 6712-01-P